LEGAL SERVICES CORPORATION

Sunshine Act Meeting of the Board of Directors Search Committee for LSC President and Inspector General

Time and Date: The Search Committee for LSC President and Inspector General of the Legal Services Corporation Board of Directors will meet January 30, 2004. The meeting will begin at 1:30 p.m. and continue until completion of the Committee's agenda.

Location: The Melrose Hotel, 2430 Pennsylvania Avenue, NW., Washington, DC 20037.

Status of Meeting: Open.

Matters to be Considered:

Open Session

1. Approval of agenda.

2. Consider and act on the process for the selection of an LSC Inspector General.

3. Public comment.

4. Consider and act on other business.

5. Consider and act on adjournment of meeting.

FOR FURTHER INFORMATION CONTACT: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: January 22, 2004.
Victor M. Fortuno,
Vice President for Legal Affairs, General Counsel and Corporate Secretary.

[FR Doc. 04-1776 Filed 1-23-04; 11:14 am]

BILLING CODE 7050-01-P